DEPARTMENT OF ENERGY

Federal Energy Regulatory Commission

[Docket No. ER02-2117-000, et al.]

Progress Energy Inc., et al.; Electric Rate and Corporate Regulation Filings

June 25, 2002.

The following filings have been made with the Commission. The filings are listed in ascending order within each docket classification.

1. Progress Energy Inc., on Behalf of Progress Ventures, Inc.

[Docket No. ER02-2117-000]

Take notice that on June 19, 2002, Progress Ventures, Inc. (Progress Ventures) tendered for filing an executed Service Agreement between Progress Ventures and the following eligible buyer, North Carolina Electric Membership Corporation. Service to this eligible buyer will be in accordance with the terms and conditions of Progress Ventures Market-Based Rates Tariff, FERC Electric Tariff No. 1.

Progress Ventures requests an effective date of June 1, 2002 for this Service Agreement. Copies of the filing were served upon the North Carolina Utilities Commission, the South Carolina Public Service Commission, the Florida Public Service Commission and the Georgia Public Service Commission.

Comment Date: July 10, 2002.

2. Progress Energy Inc., on Behalf of Progress Ventures, Inc.

[Docket No. ER02-2118-000]

Take notice that on June 19, 2002, Progress Ventures, Inc. (Progress Ventures) tendered for filing an executed Service Agreement between Progress Ventures and the following eligible buyer, Cincinnati Gas & Electric Company. Service to this eligible buyer will be in accordance with the terms and conditions of Progress Ventures Market-Based Rates Tariff, FERC Electric Tariff No. 1.

Progress Ventures requests an effective date of June 1, 2002 for this Service Agreement. Copies of the filing were served upon the North Carolina Utilities Commission, the South Carolina Public Service Commission, the Florida Public Service Commission and the Georgia Public Service Commission.

Comment Date: July 10, 2002.

3. Southern California Edison Company

[Docket No. ER02-2119-000]

Take notice that on June 19, 2002, Southern California Edison Company (SCE) tendered for filing a revised rate sheet to the Interconnection Facilities Agreement (Interconnection Agreement) between SCE and Wildflower Energy LP (Wildflower). The revised rate sheet reflects an update of the cost estimates for the interconnection facilities that are utilized by Wildflower to interconnect its generating facility to SCE's electrical system.

SCE respectfully requests that the revised sheet become effective on August 18, 2002. Copies of this filing were served upon the Public Utilities Commission of the State of California and Wildflower.

Comment Date: July 10, 2002.

4. FPLE Rhode Island State Energy, L.P.

[Docket No. ER02-2120-000]

Take notice that on June 19, 2002, FPLE Rhode Island State Energy, L.P. tendered for filing an application for authorization to sell energy, capacity and ancillary services at market-based rates pursuant to section 205 of the Federal Power Act.

Comment Date: July 10, 2002.

5. Exelon Generation Company, LLC

[Docket No. ER02-2121-000]

Take notice that on June 19, 2002, Exelon Generation Company, LLC (Exelon Generation), submitted for filing a power sales service agreement between Exelon Generation and Central Illinois Light Company, under Exelon Generation's wholesale power sales tariff, FERC Electric Tariff Original Volume No. 2

Comment Date: July 10, 2002.

6. KeySpan-Glenwood Energy Center LLC

[Docket No. ER02-2122-000]

Take notice that on June 19, 2002, KeySpan-Glenwood Energy Center LLC (Glenwood) submitted for filing for informational purposes pursuant to section 205 of the Federal Power Act an executed umbrella service agreement establishing the Long Island Lighting Company d/b/a LIPA, through its agent KeySpan Energy Trading Services, LLC as a customer under Glenwood's market-based rate tariff. Glenwood requests an effective date of May 24, 2002 for the service agreement.

Comment Date: July 10, 2002.

7. Entergy Services, Inc.

[Docket No. ER02-2123-000]

Take notice that on June 19, 2002, Entergy Services, Inc., (Entergy Services) on behalf of Entergy Arkansas, Inc., Entergy Gulf States, Inc., Entergy Louisiana, Inc., Entergy Mississippi, Inc., and Entergy New Orleans, Inc., tendered for filing a Service Agreement for Network Integration Transmission Service and a Network Operating Agreement between Entergy Services and the City of North Little Rock, Arkansas.

Comment Date: July 10, 2002.

8. Cross-Sound Cable Company, LLC

[Docket No. ER02-2124-000]

Take notice that on June 19, 2002, Cross-Sound Cable Company, LLC (CSC LLC) tendered for filing an executed Interconnection Agreement between CSC LLC and the Long Island Power Authority. CSC LLC requests an effective date of July 1, 2002.

Comment Date: July 10, 2002.

9. PJM Interconnection, L.L.C

[Docket No. ER02-2125-000]

Take notice that on June 19, 2002, PJM Interconnection, L.L.C. (PJM), tendered for filing the following executed agreements: (I) One umbrella agreement for network integration transmission service under state required retail access programs for USP&G (Pennsylvania), Ltd. (USP&G) (ii) one umbrella agreement for short-term firm point-to-point transmission service for USP&G; and (iii) one umbrella agreement for non-firm point-to-point transmission service for USP&G.

PJM requested a waiver of the Commission's notice regulations to permit the effective date of May 20, 2002 for the agreements, the date that the agreements were executed. Copies of this filing were served upon USP&G, as well as the state utility regulatory commissions within the PJM region.

Comment Date: July 10, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-16559 Filed 6-01-02; 8:45 am]

BILLING CODE 6717-01-P